DEPARTMENT OF COMMERCE

National Oceanic and Atmospheric Administration

RIN 0648-XB005

Marine Mammals; File No. 17086

AGENCY: National Marine Fisheries Service (NMFS), National Oceanic and Atmospheric Administration (NOAA), Commerce.

ACTION: Notice; issuance of permit.

SUMMARY: Notice is hereby given that a permit has been issued to Robin Baird, Ph.D., Cascadia Research, 218½ W. 4th Avenue, Olympia, WA 98501, to conduct research on marine mammals in the Atlantic Ocean.

ADDRESSES: The permit and related documents are available for review upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

FOR FURTHER INFORMATION CONTACT: Laura Morse or Carrie Hubard, (301) 427-8401.

SUPPLEMENTARY INFORMATION: On February 17, 2012, notice was published in the Federal Register (77 FR 9627) that a request for a permit to conduct research on 27 species of cetaceans in U.S. and international waters of the Atlantic Ocean from Virginia to Southern Florida had been submitted by the above-named applicant. The requested permit has been issued under the authority of the Marine Mammal Protection Act of 1972, as amended (16 U.S.C. 1361 et seq.) and the regulations governing the taking and importing of marine mammals (50 CFR part 216).

Authorized taking includes harassment of 27 species of cetaceans through vessel approach for sighting surveys, photographic identification, behavioral research, opportunistic sampling (sloughed skin, fecal material, and prey remains), and dart and/or suction-cup tagging. Import and export of marine mammal prey specimens, sloughed skin, fecal, and breath samples obtained is authorized. The permit is valid until May 11, 2017.

In compliance with the National Environmental Policy Act of 1969 (42 U.S.C. 4321 et seq.), a final determination has been made that the activity proposed is categorically excluded from the requirement to prepare an environmental assessment or environmental impact statement.

Dated: May 15, 2012.
Tammy C. Adams,
Acting Chief, Permits and Conservation Division, Office of Protected Resources, National Marine Fisheries Service.

[FR Doc. 2012-12267 Filed 5-18-12; 8:45 am]

BILLING CODE 3510-22-P